DEPARTMENT OF TRANSPORTATION

National Highway Traffic Safety Administration

[Docket No. NHTSA-98-3848; Notice 3]

Beall Trailers of Washington, Inc.; Petition for Renewal of Temporary Exemption From Federal Motor Vehicle Safety Standard No. 224

Beall Trailers of Washington, Inc., of Kent, Washington, (“Beall”), a wholly-owned subsidiary of Beall Corporation, has asked us to renew, for three years, the temporary exemption we granted it in July 1998 from Federal Motor Vehicle Safety Standard No. 224 Rear Impact Protection. The basis of the petition is that compliance would cause substantial economic hardship to a manufacturer that has tried in good faith to comply with the standard.

We are publishing this notice of receipt of the petition in accordance with our regulations on the subject. This action does not represent that we have made any judgment about the merits of the petition.

On July 8, 1998, we granted Beall's initial exemption petition, assigning it NHTSA Temporary Exemption No. 98-5, expiring July 1, 1999 (63 FR 36989). On April 20, 1999, we received Beall's application for renewal, which was filed in time to stay the expiration date of the exemption, as provided by 49 CFR 555.8(e). Following our request, Beall provided more current financial and production information on October 28, 1999 to supplement its new petition.

Beall manufactures and sells dump body trailers. It (identified in the petition as “Truckweld”) produced a total of 311 trailers in 1997, of which 124 were dump body types. Truckweld trailer production in 1998 was down to 135 units but the number of dump body types was not stated.

Standard No. 224 requires, effective January 26, 1998, that all trailers with a GVWR of 4536 Kg or more, including dump body types, be fitted with a rear impact guard that conforms to Standard No. 223 Rear impact guards. Beall argued earlier that “alterations may have to be made to the trailer chassis or even raising the dump box to provide space for the retractable guard,” indicating that a guard that retracts when the dump body is in operation is the solution it is seeking in order to comply. During the time that its exemption has been in effect, Beall “has, in good faith, made attempts to design a compliant device.” It states that it has developed “a number of potential designs” including an articulating design, but “these devices * * * do not meet FMVSS 224, have interferences with paving equipment, or have severe maintenance issues.” The company is still testing hinged, retractable devices but three issues must be overcome. First, space for a retracted device is not readily available “due to the clearance issues in connecting to pavers.” Raising the box also raises the center of gravity and reduces the stability of the trailers “thereby endangering others.” Second, “asphalt service will, over a period of time, render such devices unusable.” Finally, “it would be possible to operate a trailer with these type (sic) of devices in the retracted position, therefore not in compliance.” It will continue its efforts to conform during the three-year exemption period it has requested.

If a renewal of the exemption is not granted, substantial economic hardship will result. First, it would lose a trailer that accounts for 40 percent of its overall production. In addition, “some percentage of the remaining 60% would be lost since our customers typically purchase matching truck mounted dump bodies which may also be lost.” It also believes that 31 of its 63 employees would have to be laid off if its application is denied. It argues that maintenance of full employment would be in the public interest . Beall's net income was $39,317 in fiscal year 1995, $72,213 in 1996, $697,040 before income taxes in 1997, and $326,255 in 1998.

We welcome your written comments on Beall's petition. Please send three copies, headed with the docket and notice number shown at the top of this document, and addressed to: Docket Management, National Highway Traffic Safety Administration, Room PL-401, 400 Seventh Street, SW, Washington, DC 20590. We consider all comments received before the close of business on the comment closing date below . The comments will be available for your examination in the docket at the above address both before and after that date, between the hours of 10 a.m. and 5 p.m. To the extent possible, we will also consider comments filed after the closing date. We shall publish notice of our final action on the petition in the Federal Register under the authority of 49 U.S.C. 30113, and the delegations of authority at 49 CFR 1.50 and 501.4.

Comment closing date: February 22, 2000.

Issued on: January 14, 2000.
Stephen R. Kratzke,
Acting Associate Administrator for Safety Performance Standards.

[FR Doc. 00-1356 Filed 1-19-00; 8:45 am]

BILLIING CODE 4910-59-P